NATIONAL SCIENCE FOUNDATION

Proposal Review Panel for Physics; Notice of Meeting

In accordance with the Federal Advisory Committee Act (Pub. L. 92-463, as amended), the National Science Foundation (NSF) announces the following meeting:

Name and Committee Code: Kavli Institute for Theoretical Physics (KITP) Virtual Site Visit (1208).

Date and Time: April 5-6, 2021; 8:00 a.m. to 2:00 p.m. (PST); April 7, 2021; 8:00 a.m. to 1:00 p.m. (PST).

Place: University of California—Santa Barbara, KITP Kohn Hall Santa Barbara, CA 93106-4030.

Type of Meeting: Part-Open.

Contact Person: Edmundo Garcia-Solis, Program Director, Division of Physics, National Science Foundation, 2415 Eisenhower Avenue, Room 9219, Alexandria, VA 22314; Telephone: (703) 292-4432.

Purpose of Meeting: Virtual site visit to provide an evaluation of the progress of the projects at the host site for the Division of Physics at the National Science Foundation.

Agenda (All Times PST)

April 5, 2021

8:00 a.m.-8:30 a.m. Executive Session (Closed)

8:30 a.m.-1:30 p.m. Presentations

1:30 p.m.-2:00 p.m. Executive Session (Closed)

April 6, 2021

8:00 a.m.-8:30 a.m. Executive Session (Closed)

8:30 a.m.-1:30 p.m. Presentations

1:30 p.m.-2:00 p.m. Executive Session (Closed)

April 7, 2021

8:00 a.m.-9:00 a.m. Q & A

9:00 a.m.-12:00 p.m. Executive Session (Closed)

12:00 p.m.-1:00 p.m. Closeout presentation summary by panel

Reason for Closing: The work being reviewed during closed portions of the site visit include information of a proprietary or confidential nature, including technical information; financial data, such as salaries and personal information concerning individuals associated with the project. These matters are exempt under 5 U.S.C. 552b(c), (4) and (6) of the Government in the Sunshine Act.

Dated: January 27, 2021.
Crystal Robinson,
Committee Management Officer.

[FR Doc. 2021-02069 Filed 1-29-21; 8:45 am]

BILLING CODE 7555-01-P